FEDERAL COMMUNICATIONS COMMISSION

47 CFR Part 64

[CC Docket No. 94-129; FCC 04-214]

Policies and Rules Concerning Unauthorized Changes of Consumers' Long Distance Carriers

AGENCY: Federal Communications Commission.

ACTION: Final rule; petition for reconsideration.

SUMMARY: In this document, the Commission addresses issues raised in petitions for reconsideration regarding the implementation of the subscriber carrier selection changes provisions of the Telecommunications Act of 1996 (1996 Act) which addresses policies and rules concerning unauthorized changes of consumers' long distance carriers.

ADDRESSES: Federal Communications Commission, 445 12th Street, SW., Washington, DC 20554.

FOR FURTHER INFORMATION CONTACT: David Marks or Nancy Stevenson, Consumer & Governmental Affairs Bureau at (202) 418-2512.

SUPPLEMENTARY INFORMATION: On March 17, 2003, the Commission released a Third Order on Reconsideration published at 68 FR 19152, April 18, 2003; that amended rules implementing section 258 of the Communications Act of 1934 as amended by the Telecommunications Act of 1996. This is a summary of the Commission's Fifth Order on Reconsideration (Reconsideration Order), FCC 04-214, adopted September 3, 2004, and released November 24, 2004, addressing issues raised in petitions for reconsideration of the Third Order on Reconsideration.

This document does not contain new or modified information collection requirements subject to the Paperwork Reduction Act of 1995 (PRA), Public Law 104-13. In addition, it does not contain any new or modified “information collection burdens for small business concerns with fewer than 25 employees”, pursuant to the Small Business Paperwork Relief Act of 2002, Public Law 107-198, see 44 U.S.C. 3506(c) (4).

To request materials in accessible formats for people with disabilities (Braille, large print, electronic files, audio format), send an e-mail to fcc504@fcc.gov or call the Consumer & Governmental Affairs Bureau at (202) 418-0530 (voice) or (202) 418-0432 (TTY). This Reconsideration Order can also be downloaded in Word and Portable Document Format (PDF) at http://www.fcc.gov/cgb/policy/slamming.html.

Synopsis

The Commission's rules implementing section 258 were promulgated through a series of orders. In the Second Report and Order, published at 64 FR 7746, February 16, 1999, the Commission sought to eliminate the profits associated with slamming by broadening the scope of its carrier change rules and adopting, among other things, more rigorous slamming liability and carrier change verification measures. When the Commission released the Second Report and Order, it recognized that additional revisions to the slamming rules could further improve the preferred carrier change process and prevent unauthorized changes. Therefore, concurrent with the release of the Second Report and Order, the Commission issued a Further Notice of Proposed Rulemaking (Further Notice), published at 64 FR 7763, February 16, 1999. In the Third Report and Order, the Commission adopted a number of rules proposed in the Further Notice, and addressed most issues raised on reconsideration of the Second Report and Order. In addition, in the First Reconsideration Order, published at 65 FR 47678, August 3, 2000, the Commission amended portions of the rules regarding liability for slamming that had been stayed by the DC Circuit Court. Finally, in the Third Reconsideration Order, we addressed remaining petitions for reconsideration of the previous orders, and modified certain rules concerning, amongst other things, verifications of carrier change requests and liability for slamming.

In the Reconsideration Order, we addressed petitions filed by a coalition of independent local exchange carriers (LEC Petitioners) seeking reconsideration of the Commission's verification requirement for in-bound carrier change request calls. Additionally, we addressed a petition filed by AT&T seeking clarification of the decision to apply our slamming rules to newly-installed lines. Finally, we addressed a petition filed by WorldCom (MCI) seeking a finding that credits made to the consumer before a slamming complaint has been filed will be considered “unpaid” when calculating liability under the slamming rules, or will be deducted from the amount owed to the authorized carrier by a carrier found liable for a slam.

Regulatory Flexibility Act Analysis

In the Reconsideration Order, the Commission promulgates no additional final rules, and our present action is, therefore, not subject to the Regulatory Flexibility Act of 1980, as amended.

Report to Congress

The Commission will not send a copy of this Fifth Order on Reconsideration pursuant to the Congressional Review Act because the Fifth Order on Reconsideration neither adopts nor modifies a rule.

Ordering Clauses

Pursuant to sections 1, 4(i), 4(j), 201, 206-208, and 258 of the Communications Act of 1934, as amended, 47 U.S.C. 151, 154(i), 154(j), 201, 206-208, and 258, and §§ 1.421 and 1.429 of the Commission's rules, 47 CFR 1.421 and 1.429, that this Fifth Order on Reconsideration in CC Docket No. 94-129 is adopted.

Pursuant to sections 1, 4(i), and 4(j) of the Communications Act of 1934, as amended, 47 U.S.C 151, 154(i), and 154(j), and §§ 1.3, 1.43, and 1.429 of the Commission's rules, 47 CFR 1.3, 1.43, and 1.429, that the petitions for waiver, emergency partial stay, and reconsideration filed by the LEC Petitioners, LEC Commenters, TDS Telecom and the Nebraska LECs are denied.

Pursuant to sections 1, 4(i), and 4(j) of the Communications Act of 1934, as amended, 47 U.S.C. 151, 154(i), and 154(j), and § 1.429 of the Commission's rules, 47 CFR 1.429, that AT&T's petition for reconsideration or clarification is granted to the extent indicated herein.

Pursuant to sections 1, 4(i), and 4(j) of the Communications Act of 1934, as amended, 47 U.S.C. 151, 154(i), and 154(j), and § 1.429 of the Commission's rules, 47 CFR 1.429, that MCI's petition for reconsideration is denied.

The Commission's Consumer & Governmental Affairs Bureau, Reference Information Center, shall send a copy of this Fifth Order on Reconsideration to the Chief Counsel for Advocacy of the Small Business Administration.

Federal Communications Commission.
Marlene H. Dortch,
Secretary.

[FR Doc. 05-5737 Filed 3-22-05; 8:45 am]

BILLING CODE 6712-01-P